COMMODITY FUTURES TRADING COMMISSION

17 CFR Part 39

RIN 3038-AF21

Derivatives Clearing Organization Risk Management Regulations To Account for the Treatment of Separate Accounts by Futures Commission Merchants

AGENCY: Commodity Futures Trading Commission.

ACTION: Extension of comment period.

SUMMARY: On April 14, 2023, the Commodity Futures Trading Commission (Commission or CFTC) published in the Federal Register a notice of proposed rulemaking (NPRM) titled Derivatives Clearing Organization Risk Management Regulations To Account for the Treatment of Separate Accounts by Futures Commission Merchants. The comment period for the NPRM closes on June 13, 2023. The Commission is extending the comment period for this NPRM by an additional 17 days.

DATES: The comment period for the NPRM titled Derivatives Clearing Organization Risk Management Regulations To Account for the Treatment of Separate Accounts by Futures Commission Merchants, published April 14, 2023 at 88 FR 22934, is extended through June 30, 2023.

ADDRESSES: You may submit comments, identified by RIN 3038-AF21, by any of the following methods:

• CFTC Comments Portal: https://comments.cftc.gov. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. Submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://comments.cftc.gov that it may deem to be inappropriate for publication, such as obscene language.

¹ 17 CFR 145.9.

FOR FURTHER INFORMATION CONTACT: Robert B. Wasserman, Chief Counsel, Division of Clearing and Risk, at 202-418-5092 or rwasserman@cftc.gov, or Daniel O'Connell, Special Counsel, Division of Clearing and Risk, at 202-418-5583 or doconnell@cftc.gov, at the Commodity Futures Trading Commission, Three Lafayette Centre, 1155 21st Street NW, Washington, DC 20581.

SUPPLEMENTARY INFORMATION: On April 14, 2023, the Commission published in the Federal Register an NPRM proposing to amend the CFTC's derivatives clearing organization (DCO) risk management regulations adopted under section 5b of the Commodity Exchange Act to permit futures commission merchants that are clearing members to treat the separate accounts of a single customer as accounts of separate entities for purposes of Commission regulation § 39.13(g)(8)(iii).² The proposed amendments would add a new paragraph (j) to regulation § 39.13 establishing the conditions under which a DCO may permit such separate account treatment. The comment period for the NPRM closes on June 13, 2023. As requested by a commenter, the Commission is extending the comment period for this NPRM by an additional 17 days.³ This extension of the comment period will allow interested persons additional time to analyze the proposal and prepare their comments.

² Derivatives Clearing Organization Risk Management Regulations To Account for the Treatment of Separate Accounts by Futures Commission Merchants, 88 FR 22934 (Apr. 14, 2023).

³ FIA Letter dated June 9, 2023 to Christopher J. Kirkpatrick.

Issued in Washington, DC, on June 12, 2023, by the Commission.
Christopher Kirkpatrick,
Secretary of the Commission.

NOTE: The following appendix will not appear in the Code of Federal Regulations.

Appendix to Derivatives Clearing Organization Risk Management Regulations To Account for the Treatment of Separate Accounts by Futures Commission Merchants—Commission Voting Summary

On this matter, Chairman Behnam and Commissioners Johnson, Goldsmith Romero, Mersinger, and Pham voted in the affirmative. No Commissioner voted in the negative.

[FR Doc. 2023-12832 Filed 6-14-23; 8:45 am]

BILLING CODE 6351-01-P